DEPARTMENT OF HEALTH AND HUMAN SERVICES

Centers for Disease Control and Prevention

Reorganization of the Office of Safety, Security and Asset Management

AGENCY: Centers for Disease Control and Prevention (CDC), the Department of Health and Human Services (HHS).

ACTION: Notice.

SUMMARY: CDC has modified its structure. This notice announces the reorganization of the Office of Safety, Security and Asset Management (OSSAM). OSSAM realigned internal emergency management functions with related functions such as public health emergency response functions to a single leader.

DATES: This reorganization of OSSAM was approved by the Director of CDC on June 28, 2023.

FOR FURTHER INFORMATION CONTACT: Kimberly Thurmond, Office of the Chief Operating Officer, Office of the Director, Centers for Disease Control and Prevention, 1600 Clifton Road NE, MS TW-2, Atlanta, GA 30329. Telephone 770-488-4401; Email: reorgs@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 88 FR 9290-9291, dated February 13, 2023) is amended to reflect the reorganization of Office of Safety, Security and Asset Management within the Office of the Chief Operating Officer, Centers for Disease Control and Prevention. Specifically, the changes are as follows:

Under Part C, Section C-B, Organization and Functions, delete the functional statements for Office of Safety, Security and Asset Management (CAJS) and replace with the following:

Office of Safety, Security and Asset Management (CAJS). The Office of Safety, Security, and Asset Management (OSSAM) serves as the lead organizational entity for providing a safe, secure, and healthy workforce and workplace for the Centers for Disease Control and Prevention (CDC) and Agency for Toxic Substances and Disease Registry (ATSDR) staff.

Delete item 3 in the Office of the Director (CAJS1) functional statement and insert the following:

(3) provides advice and counsel to the CDC Director, the Chief Operating Officer, and other senior Immediate Office of the Director (IOD) and Centers/Institute/Offices (CIO) officials on all OSSAM programs and activities.

Delete item 8 in the Office of the Director (CAJS1) functional statement and insert the following:

(8) manages space requests and acts on behalf of the Chief Operating Officer for approval for all CDC CIOs.

Delete item 29 in the Office of the Director (CAJS1) functional statement and insert the following:

(29) leads OSSAM performance management, including the development of strategic plans, performance metrics, dashboards, and Office of the Chief Operating Officer performance management initiatives.

Delete item 31 in the Office of the Director (CAJS1) functional statement and insert the following:

(31) ensures accurate and consistent information dissemination, including Freedom of Information Act requests and controlled correspondence.

After item 34 of the Office of the Director (CAJS1) functional statement, insert the following:

(35) performs enterprise risk management for OSSAM; (36) leads a comprehensive internal emergency management program that efficiently coordinates CDC resources to, first and foremost, protect lives, then to safeguard the environment and property through mitigation, preparedness training, response, continuity and recovery from all natural, man-made and technological hazards that may impact CDC facilities; (37) implements, maintains, and updates CDC's Occupant Emergency Plan/Program; (38) conducts and evaluates annual tabletop, functional, and full-scale exercises for all CDC facilities with Designated Officials and Occupant Emergency Organizations; (39) recommends future emergency management and emergency response-related programs, policies, and/or procedures; (40) provides leadership and coordination in planning and implementation for internal emergencies; and (41) provides leadership and coordination in planning and implementation for internal emergency incidents affecting the CDC facilities, including incident response and support.

Delete the functional statement for the Asset Management Services Office (CAJSB) and replace with the following:

Asset Management Services Office (CAJSB). The Asset Management Services Office (AMSO) provides a safe, secure, healthy, and functional workplace environment for CDC staff by ensuring that assets are managed effectively while maintaining efficient operations, customer satisfaction, and environmental stewardship.

Delete the functional statement for the Security Services Office (CAJSE) and replace with the following:

Security Services Office (CAJSE). The Security Services Office (SSO) serves as the lead organizational entity for providing the overall framework, direction, coordination, implementation, oversight and accountability for CDC's infrastructure protection, and personnel security program. Specifically, SSO: (1) serves as the primary liaison for homeland security activities; and (2) provides a secure work environment for CDC/ATSDR personnel, visitors and contractors.

Delete in its entirety the title and functional statement for the Internal Emergency Management Branch (CAJSEE).

Delegations of Authority

All delegations and redelegations of authority made to officials and employees of affected organizational components will continue in them or their successors pending further redelegation, provided they are consistent with this reorganization.

(Authority: 44 U.S.C. 3101)

Robin D. Bailey,
Chief Operating Officer, Centers for Disease Control and Prevention.

[FR Doc. 2023-14696 Filed 7-11-23; 8:45 am]

BILLING CODE P